DEPARTMENT OF COMMERCE

National Oceanic and Atmospheric Administration

[I.D. 112002A]

Gulf of Mexico Fishery Management Council; Public Meetings

AGENCY: National Marine Fisheries Service (NMFS), National Oceanic and Atmospheric Administration (NOAA), Commerce.

ACTION: Notice of public meeting.

SUMMARY: The Gulf of Mexico Fishery Management Council (Council) will convene a public meeting of the Socioeconomic Panel (SEP).

DATES: A meeting of the SEP will be held beginning at 8:30 a.m. on Wednesday, December 11, 2002, and will conclude at 4 p.m. on Friday, December 13, 2002.

ADDRESSES: The meeting will be held at the Hilton Tampa Airport Westshore, 2225 Lois Avenue, Tampa, FL; telephone: 813-877-6688.

Council address: Gulf of Mexico Fishery Management Council, 3018 U.S. Highway 301 North, Suite 1000, Tampa, FL 33619.

FOR FURTHER INFORMATION CONTACT: Antonio B. Lamberte, Economist, telephone: 813-228-2815.

SUPPLEMENTARY INFORMATION: The SEP will meet to review available social and economic information on red grouper and yellowedge grouper stocks and to determine the social and economic implications of the levels of acceptable biological catch (ABC) recommended by the Council's Reef Fish Stock Assessment Panel (RFSAP). The SEP may recommend to the Council total allowable catch (TAC) levels for the 2003 fishing year and certain management measures associated with achieving the TACs.

In addition, the SEP will hear presentations on bioeconomic modeling. Dr. Wade Griffin of Texas A&M University will discuss the details of his bioeconomic model and results of a bioeconomic modeling evaluation of the Texas shrimp closure. Dr. John Ward of the National Marine Fisheries Service will present his research on multi-species bioeconomic models. Dr. Lee Anderson (with Mr. Dohoon Kim) of the University of Delaware will present his bioeconomic model for red grouper and yellowedge grouper.

Composing the SEP membership are economists, sociologists, and anthropologists from various universities and state fishery agencies throughout the Gulf. They advise the Council on the social and economic implications of certain fishery management measures.

A copy of the agenda can be obtained by calling 813-228-2815. Although other non-emergency issues not on the agenda may come before the SEP for discussion, in accordance with the Magnuson-Stevens Fishery Conservation and Management Act, those issues may not be the subject of formal action during this meeting. Actions of the SEP will be restricted to those issues specifically identified in the agendas and any issues arising after publication of this notice that require emergency action under Section 305(c) of the Magnuson-Stevens Act, provided the public has been notified of the Council's intent to take action to address the emergency.

Special Accommodations

The meeting is open to the public and is physically accessible to people with disabilities. Requests for sign language interpretation or other auxiliary aids should be directed to the Council office (see ADDRESSES) by December 4, 2002.

Dated: November 21, 2002.
Richard W. Surdi,
Acting Director, Office of Sustainable Fisheries, National Marine Fisheries Service.

[FR Doc. 02-29970 Filed 11-25-02; 8:45 am]

BILLING CODE 3510-22-S